EXPORT-IMPORT BANK OF THE U.S.

[Public Notice 109]

Agency Information Collection Activities: Proposed Collection; Comment Request

AGENCY: Export-Import Bank of the U.S.

ACTION: Notice and request for comments.

SUMMARY: The Export-Import Bank of the United States (“Ex-Im Bank”), as a part of its continuing effort to reduce paperwork and respondent burden, invites the general public and other Federal Agencies to comment on the proposed information collection, as required by the Paperwork Reduction Act of 1995. This collection allows insured/guaranteed parties and insurance brokers to report overdue payments from the borrower and/or guarantor. Our customers will submit this form electronically through Ex-Im Online, replacing paper reporting. In this form, Ex-Im Bank has simplified reporting of payment defaults by including checkboxes and providing for many fields to be self-populated by Ex-Im Online. Ex-Im Bank provides insurance, loans and guarantees for the financing of exports of goods and services.

DATES: Written comments should be received on or before June 8, 2009 to be assured of consideration.

ADDRESSES: Direct all comments and requests for additional information to Mauricio Paredes, Export-Import Bank of the U.S., 811 Vermont Avenue, NW., Washington, DC 20571, (202) 565-3266.

SUPPLEMENTARY INFORMATION: Titles and Form Numbers: EIB 09-01 Payment Default Report (Online).

OMB Number: None.

Type of Review: Regular.

Need and Use: The information requested enables insured/guaranteed parties and insurance brokers to report overdue payments from the borrower and/or guarantor.

Affected Public: Insured/guaranteed parties and brokers.

Estimated Annual Respondents: 200.

Estimated Time per Respondent: 15 minutes.

Estimated Annual Burden: 50 hours.

Frequency of Reporting or Use: On occasion.

Solomon Bush,
Agency Clearance Officer.

[FR Doc. E9-7830 Filed 4-6-09; 8:45 am]

BILLING CODE 6690-01-P